POSTAL REGULATORY COMMISSION

39 CFR Part 3040

[Docket No. RM2020-8]

RIN 3211-AA28

Update to Product Lists

AGENCY: Postal Regulatory Commission.

ACTION: Direct final rule.

SUMMARY: The Commission is announcing an update to the Market Dominant and Competitive product lists of the United States Postal Service (Postal Service). This action reflects a publication policy adopted by Commission rules. The referenced policy assumes periodic updates. The updates are identified in the body of this document. The Market Dominant and Competitive product lists, which are re-published in their entirety, include these updates.

DATES: This rule is effective April 1, 2024, without further action, unless adverse comment is received by March 18, 2024. If adverse comment is received, the Commission will publish a timely withdrawal of the rule in the Federal Register.

ADDRESSES: For additional information, this document can be accessed electronically through the Commission's website at https://www.prc.gov.

FOR FURTHER INFORMATION CONTACT: David A. Trissell, General Counsel, at 202-789-6800.

SUPPLEMENTARY INFORMATION:

I. Introduction

II. Commission Process

III. Authorization

IV. Modifications

V. Ordering Paragraphs

I. Introduction

Pursuant to 39 U.S.C. 3642(d)(2) and 39 CFR 3040.103, the Commission provides a Notice of Update to Product Lists by listing all necessary modifications to both the Market Dominant and Competitive product lists between July 1, 2023 and December 31, 2023.

II. Commission Process

Pursuant to 39 CFR part 3040, the Commission maintains a Mail Classification Schedule (MCS) that includes rates, fees, and product descriptions for each Market Dominant and Competitive product, as well as product lists that categorize Postal Service products as either Market Dominant or Competitive. See generally 39 CFR part 3040. The product lists are published in the Code of Federal Regulations as 39 CFR Appendix A to Subpart A of Part 3040—Market Dominant Product List and Appendix B to Subpart A of Part 3040—Competitive Product List pursuant to 39 U.S.C. 3642(d)(2). See 39 U.S.C. 3642(d)(2). The MCS is updated by the Commission on its website on a quarterly basis.¹ The product lists are updated biannually and are also published in the Federal Register pursuant to 39 CFR 3040.103.²

¹ 39 CFR 3040.105(b). See https://www.prc.gov/mail-classification-schedule in the Current MCS section.

² 39 CFR 3040.103. See https://prc.arkcase.com/portal/docket-search/advanced/docket-details/5192.

III. Authorization

Pursuant to 39 CFR 3040.103(d)(1), this Notice of Update to Product Lists identifies any modifications made to the Market Dominant or Competitive product list, including product additions, removals, and transfers.³ Pursuant to 39 CFR 3040.103(d)(2), the modifications identified in this document result from the Commission's most recent MCS update posted on the Commission's website on January 26, 2024, and supersede all previous product lists.⁴

³ 39 CFR 3040.103(d)(1). More detailed information (e.g., Docket Nos., Order Nos., effective dates, and extensions) for each Market Dominant and Competitive product can be found in the MCS, including the “Revision History” section, available at https://www.prc.gov/mail-classification-schedule.

⁴ Previous versions of the MCS and its product lists can be found on the Commission's website, available at https://www.prc.gov/mail-classification-schedule in the MCS Archives section.

IV. Modifications

The following list of products is being added to 39 CFR Appendix A to Subpart A of Part 3040—Market Dominant Product List:

1. Publisher's Clearing House Negotiated Service Agreement for USPS Marketing Mail

The following list of products is being added to 39 CFR Appendix B to Subpart A of Part 3040—Competitive Product List:

1. First-Class Package Service & Parcel Select Contract 3

2. First-Class Package Service & Parcel Select Contract 4

3. First-Class Package Service & Parcel Select Contract 5

4. First-Class Package Service & Parcel Select Contract 7

5. Parcel Return Service Contract 20

6. Priority Mail Contract 781

7. Priority Mail Contract 782

8. Priority Mail Contract 783

9. Priority Mail Contract 785

10. Priority Mail Contract 786

11. Priority Mail Contract 787

12. Priority Mail Contract 788

13. Priority Mail Express International, Priority Mail International & Commercial ePacket Contract 2

14. Priority Mail Express International, Priority Mail International & Commercial ePacket Contract 3

15. Priority Mail Express International, Priority Mail International & First-Class Package International Service Contract 21

16. Priority Mail Express International, Priority Mail International & First-Class Package International Service Contract 22

17. Priority Mail Express International, Priority Mail International & First-Class Package International Service Contract 23

18. Priority Mail Express International, Priority Mail International & First-Class Package International Service Contract 24

19. Priority Mail Express International, Priority Mail International & First-Class Package International Service Contract 25

20. Priority Mail Express International, Priority Mail International & First-Class Package International Service Contract 26

21. Priority Mail Express International, Priority Mail International & First-Class Package International Service Contract 27

22. Priority Mail Express International, Priority Mail International & First-Class Package International Service Contract 28

23. Priority Mail Express International, Priority Mail International & First-Class Package International Service Contract 29

24. Priority Mail Express International, Priority Mail International & First-Class Package International Service Contract 30

25. Priority Mail Express International, Priority Mail International & First-Class Package International Service Contract 31

26. Priority Mail Express International, Priority Mail International, First-Class Package International Service & Commercial ePacket Contract 14

27. Priority Mail Express, Priority Mail, First-Class Package Service & Parcel Select Contract 122

28. Priority Mail Express, Priority Mail & USPS Ground Advantage Contract 1

29. Priority Mail Express, Priority Mail & USPS Ground Advantage Contract 2

30. Priority Mail Express, Priority Mail & USPS Ground Advantage Contract 3

31. Priority Mail Express, Priority Mail & USPS Ground Advantage Contract 4

32. Priority Mail Express, Priority Mail & USPS Ground Advantage Contract 5

33. Priority Mail Express, Priority Mail & USPS Ground Advantage Contract 6

34. Priority Mail Express, Priority Mail & USPS Ground Advantage Contract 7

35. Priority Mail Express, Priority Mail & USPS Ground Advantage Contract 8

36. Priority Mail Express, Priority Mail & USPS Ground Advantage Contract 9

37. Priority Mail Express, Priority Mail & USPS Ground Advantage Contract 10

38. Priority Mail Express, Priority Mail & USPS Ground Advantage Contract 11

39. Priority Mail Express, Priority Mail & USPS Ground Advantage Contract 12

40. Priority Mail Express, Priority Mail & USPS Ground Advantage Contract 13

41. Priority Mail Express, Priority Mail & USPS Ground Advantage Contract 14

42. Priority Mail Express, Priority Mail & USPS Ground Advantage Contract 15

43. Priority Mail Express, Priority Mail & USPS Ground Advantage Contract 16

44. Priority Mail Express, Priority Mail & USPS Ground Advantage Contract 17

45. Priority Mail Express, Priority Mail & USPS Ground Advantage Contract 18

46. Priority Mail Express, Priority Mail & USPS Ground Advantage Contract 19

47. Priority Mail Express, Priority Mail & USPS Ground Advantage Contract 20

48. Priority Mail Express, Priority Mail & USPS Ground Advantage Contract 21

49. Priority Mail Express, Priority Mail & USPS Ground Advantage Contract 22

50. Priority Mail Express, Priority Mail & USPS Ground Advantage Contract 23

51. Priority Mail Express, Priority Mail & USPS Ground Advantage Contract 24

52. Priority Mail Express, Priority Mail & USPS Ground Advantage Contract 25

53. Priority Mail Express, Priority Mail & USPS Ground Advantage Contract 26

54. Priority Mail Express, Priority Mail & USPS Ground Advantage Contract 27

55. Priority Mail Express, Priority Mail & USPS Ground Advantage Contract 28

56. Priority Mail Express, Priority Mail & USPS Ground Advantage Contract 29

57. Priority Mail Express, Priority Mail & USPS Ground Advantage Contract 30

58. Priority Mail Express, Priority Mail & USPS Ground Advantage Contract 31

59. Priority Mail Express, Priority Mail & USPS Ground Advantage Contract 32

60. Priority Mail Express, Priority Mail & USPS Ground Advantage Contract 33

61. Priority Mail Express, Priority Mail & USPS Ground Advantage Contract 34

62. Priority Mail Express, Priority Mail & USPS Ground Advantage Contract 35

63. Priority Mail Express, Priority Mail & USPS Ground Advantage Contract 36

64. Priority Mail Express, Priority Mail & USPS Ground Advantage Contract 37

65. Priority Mail Express, Priority Mail, USPS Ground Advantage & Parcel Select Contract 1

66. Priority Mail, First-Class Package Service & Parcel Select Contract 30

67. Priority Mail, First-Class Package Service & Parcel Select Contract 31

68. Priority Mail, First-Class Package Service & Parcel Select Contract 32

69. Priority Mail, First-Class Package Service & Parcel Select Contract 33

70. Priority Mail, First-Class Package Service & Parcel Select Contract 34

71. Priority Mail, First-Class Package Service & Parcel Select Contract 35

72. Priority Mail, First-Class Package Service & Parcel Select Contract 36

73. Priority Mail, First-Class Package Service & Parcel Select Contract 38

74. Priority Mail, First-Class Package Service & Parcel Select Contract 39

75. Priority Mail, First-Class Package Service & Parcel Select Contract 40

76. Priority Mail, First-Class Package Service & Parcel Select Contract 41

77. Priority Mail, First-Class Package Service, Parcel Select & Parcel Return Service Contract 1

78. Priority Mail & USPS Ground Advantage Contract 4

79. Priority Mail & USPS Ground Advantage Contract 5

80. Priority Mail & USPS Ground Advantage Contract 6

81. Priority Mail & USPS Ground Advantage Contract 7

82. Priority Mail & USPS Ground Advantage Contract 8

83. Priority Mail & USPS Ground Advantage Contract 9

84. Priority Mail & USPS Ground Advantage Contract 10

85. Priority Mail & USPS Ground Advantage Contract 11

86. Priority Mail & USPS Ground Advantage Contract 12

87. Priority Mail & USPS Ground Advantage Contract 14

88. Priority Mail & USPS Ground Advantage Contract 15

89. Priority Mail & USPS Ground Advantage Contract 16

90. Priority Mail & USPS Ground Advantage Contract 17

91. Priority Mail & USPS Ground Advantage Contract 18

92. Priority Mail & USPS Ground Advantage Contract 19

93. Priority Mail & USPS Ground Advantage Contract 20

94. Priority Mail & USPS Ground Advantage Contract 21

95. Priority Mail & USPS Ground Advantage Contract 22

96. Priority Mail & USPS Ground Advantage Contract 23

97. Priority Mail & USPS Ground Advantage Contract 24

98. Priority Mail & USPS Ground Advantage Contract 25

99. Priority Mail & USPS Ground Advantage Contract 26

100. Priority Mail & USPS Ground Advantage Contract 27

101. Priority Mail & USPS Ground Advantage Contract 28

102. Priority Mail & USPS Ground Advantage Contract 29

103. Priority Mail & USPS Ground Advantage Contract 30

104. Priority Mail & USPS Ground Advantage Contract 31

105. Priority Mail & USPS Ground Advantage Contract 32

106. Priority Mail & USPS Ground Advantage Contract 33

107. Priority Mail & USPS Ground Advantage Contract 34

108. Priority Mail & USPS Ground Advantage Contract 35

109. Priority Mail & USPS Ground Advantage Contract 36

110. Priority Mail & USPS Ground Advantage Contract 37

111. Priority Mail & USPS Ground Advantage Contract 38

112. Priority Mail & USPS Ground Advantage Contract 39

113. Priority Mail & USPS Ground Advantage Contract 40

114. Priority Mail & USPS Ground Advantage Contract 41

115. Priority Mail & USPS Ground Advantage Contract 42

116. Priority Mail & USPS Ground Advantage Contract 43

117. Priority Mail & USPS Ground Advantage Contract 44

118. Priority Mail & USPS Ground Advantage Contract 45

119. Priority Mail & USPS Ground Advantage Contract 46

120. Priority Mail & USPS Ground Advantage Contract 47

121. Priority Mail & USPS Ground Advantage Contract 48

122. Priority Mail & USPS Ground Advantage Contract 49

123. Priority Mail & USPS Ground Advantage Contract 50

124. Priority Mail & USPS Ground Advantage Contract 51

125. Priority Mail & USPS Ground Advantage Contract 52

126. Priority Mail & USPS Ground Advantage Contract 53

127. Priority Mail & USPS Ground Advantage Contract 54

128. Priority Mail & USPS Ground Advantage Contract 55

129. Priority Mail & USPS Ground Advantage Contract 56

130. Priority Mail & USPS Ground Advantage Contract 57

131. Priority Mail & USPS Ground Advantage Contract 58

132. Priority Mail & USPS Ground Advantage Contract 59

133. Priority Mail & USPS Ground Advantage Contract 60

134. Priority Mail & USPS Ground Advantage Contract 61

135. Priority Mail & USPS Ground Advantage Contract 62

136. Priority Mail & USPS Ground Advantage Contract 63

137. Priority Mail & USPS Ground Advantage Contract 64

138. Priority Mail & USPS Ground Advantage Contract 65

139. Priority Mail & USPS Ground Advantage Contract 66

140. Priority Mail & USPS Ground Advantage Contract 67

141. Priority Mail & USPS Ground Advantage Contract 68

142. Priority Mail & USPS Ground Advantage Contract 69

143. Priority Mail & USPS Ground Advantage Contract 70

144. Priority Mail & USPS Ground Advantage Contract 71

145. Priority Mail & USPS Ground Advantage Contract 72

146. Priority Mail & USPS Ground Advantage Contract 73

147. Priority Mail & USPS Ground Advantage Contract 74

148. Priority Mail & USPS Ground Advantage Contract 75

149. Priority Mail & USPS Ground Advantage Contract 76

150. Priority Mail & USPS Ground Advantage Contract 77

151. Priority Mail & USPS Ground Advantage Contract 78

152. Priority Mail & USPS Ground Advantage Contract 79

153. Priority Mail & USPS Ground Advantage Contract 80

154. Priority Mail & USPS Ground Advantage Contract 81

155. Priority Mail & USPS Ground Advantage Contract 82

156. Priority Mail & USPS Ground Advantage Contract 83

157. Priority Mail & USPS Ground Advantage Contract 84

158. Priority Mail & USPS Ground Advantage Contract 85

159. Priority Mail & USPS Ground Advantage Contract 86

160. Priority Mail & USPS Ground Advantage Contract 87

161. Priority Mail & USPS Ground Advantage Contract 88

162. Priority Mail & USPS Ground Advantage Contract 89

163. Priority Mail & USPS Ground Advantage Contract 90

164. Priority Mail & USPS Ground Advantage Contract 91

165. Priority Mail & USPS Ground Advantage Contract 92

166. Priority Mail & USPS Ground Advantage Contract 93

167. Priority Mail & USPS Ground Advantage Contract 94

168. Priority Mail & USPS Ground Advantage Contract 95

169. Priority Mail & USPS Ground Advantage Contract 96

170. Priority Mail & USPS Ground Advantage Contract 97

171. Priority Mail & USPS Ground Advantage Contract 98

172. Priority Mail & USPS Ground Advantage Contract 99

173. Priority Mail & USPS Ground Advantage Contract 100

174. Priority Mail & USPS Ground Advantage Contract 101

175. Priority Mail & USPS Ground Advantage Contract 102

176. Priority Mail & USPS Ground Advantage Contract 103

177. Priority Mail & USPS Ground Advantage Contract 104

178. Priority Mail & USPS Ground Advantage Contract 105

179. Priority Mail & USPS Ground Advantage Contract 106

180. Priority Mail & USPS Ground Advantage Contract 107

181. Priority Mail & USPS Ground Advantage Contract 108

182. Priority Mail & USPS Ground Advantage Contract 109

183. Priority Mail & USPS Ground Advantage Contract 110

184. Priority Mail & USPS Ground Advantage Contract 111

185. Priority Mail & USPS Ground Advantage Contract 112

186. Priority Mail & USPS Ground Advantage Contract 113

187. Priority Mail & USPS Ground Advantage Contract 114

188. Priority Mail & USPS Ground Advantage Contract 115

189. Priority Mail & USPS Ground Advantage Contract 116

190. Priority Mail & USPS Ground Advantage Contract 117

191. Priority Mail & USPS Ground Advantage Contract 118

192. Priority Mail & USPS Ground Advantage Contract 119

193. Priority Mail & USPS Ground Advantage Contract 120

194. Priority Mail & USPS Ground Advantage Contract 121

195. Priority Mail & USPS Ground Advantage Contract 122

196. Priority Mail & USPS Ground Advantage Contract 123

197. Priority Mail & USPS Ground Advantage Contract 124

198. Priority Mail & USPS Ground Advantage Contract 125

199. Priority Mail & USPS Ground Advantage Contract 126

200. Priority Mail & USPS Ground Advantage Contract 127

201. Priority Mail & USPS Ground Advantage Contract 128

202. Priority Mail & USPS Ground Advantage Contract 129

203. Priority Mail & USPS Ground Advantage Contract 130

204. Priority Mail & USPS Ground Advantage Contract 131

205. Priority Mail & USPS Ground Advantage Contract 132

206. Priority Mail & USPS Ground Advantage Contract 133

207. Priority Mail & USPS Ground Advantage Contract 134

208. Priority Mail & USPS Ground Advantage Contract 135

209. Priority Mail & USPS Ground Advantage Contract 136

210. Priority Mail & USPS Ground Advantage Contract 137

211. Priority Mail & USPS Ground Advantage Contract 138

212. Priority Mail & USPS Ground Advantage Contract 139

213. Priority Mail & USPS Ground Advantage Contract 140

214. Priority Mail & USPS Ground Advantage Contract 141

215. Priority Mail & USPS Ground Advantage Contract 142

216. Priority Mail & USPS Ground Advantage Contract 143

217. Priority Mail & USPS Ground Advantage Contract 144

218. Priority Mail & USPS Ground Advantage Contract 145

219. Priority Mail & USPS Ground Advantage Contract 146

220. Priority Mail & USPS Ground Advantage Contract 147

221. Priority Mail & USPS Ground Advantage Contract 148

222. Priority Mail & USPS Ground Advantage Contract 149

223. Priority Mail & USPS Ground Advantage Contract 150

224. Priority Mail, USPS Ground Advantage & Parcel Select Contract 1

225. Priority Mail, USPS Ground Advantage, Parcel Select & Parcel Return Service Contract 1

226. USPS Ground Advantage Contract 1

227. USPS Ground Advantage Contract 2

228. USPS Ground Advantage Contract 3

229. USPS Ground Advantage Contract 4

230. USPS Ground Advantage Contract 5

231. USPS Ground Advantage Contract 6

232. USPS Ground Advantage Contract 7

233. USPS Ground Advantage Contract 8

234. USPS Ground Advantage Contract 9

235. USPS Ground Advantage Contract 10

The following product from 39 CFR Appendix B to Subpart A of Part 3040—Competitive Product List is being removed:

1. Parcel Return Service

The following list of products is being removed from 39 CFR Appendix B to Subpart A of Part 3040—Competitive Product List:

1. First-Class Package Service & Parcel Select Contract 6

2. First-Class Package Service Contract 109

3. First-Class Package Service Contract 110

4. First-Class Package Service Contract 114

5. First-Class Package Service Contract 120

6. Parcel Return Service Contract 17

7. Parcel Return Service Contract 18

8. Parcel Select & Parcel Return Service Contract 14

9. Parcel Select Contract 49

10. Parcel Select Contract 54

11. Parcel Select Contract 55

12. Parcel Select Contract 59

13. Priority Mail & First-Class Package Service Contract 143

14. Priority Mail & First-Class Package Service Contract 163

15. Priority Mail & First-Class Package Service Contract 172

16. Priority Mail & First-Class Package Service Contract 177

17. Priority Mail & First-Class Package Service Contract 184

18. Priority Mail & First-Class Package Service Contract 189

19. Priority Mail & First-Class Package Service Contract 190

20. Priority Mail & First-Class Package Service Contract 191

21. Priority Mail & First-Class Package Service Contract 197

22. Priority Mail & First-Class Package Service Contract 199

23. Priority Mail & First-Class Package Service Contract 202

24. Priority Mail & First-Class Package Service Contract 210

25. Priority Mail & First-Class Package Service Contract 219

26. Priority Mail & First-Class Package Service Contract 222

27. Priority Mail & First-Class Package Service Contract 223

28. Priority Mail & First-Class Package Service Contract 225

29. Priority Mail & First-Class Package Service Contract 226

30. Priority Mail & First-Class Package Service Contract 227

31. Priority Mail & First-Class Package Service Contract 229

32. Priority Mail & USPS Ground Advantage Contract 3

33. Priority Mail Contract 590

34. Priority Mail Contract 596

35. Priority Mail Contract 604

36. Priority Mail Contract 615

37. Priority Mail Contract 618

38. Priority Mail Contract 628

39. Priority Mail Contract 631

40. Priority Mail Contract 640

41. Priority Mail Contract 647

42. Priority Mail Contract 655

43. Priority Mail Contract 657

44. Priority Mail Contract 658

45. Priority Mail Contract 663

46. Priority Mail Contract 665

47. Priority Mail Contract 666

48. Priority Mail Contract 669

49. Priority Mail Contract 671

50. Priority Mail Contract 672

51. Priority Mail Contract 682

52. Priority Mail Contract 699

53. Priority Mail Contract 708

54. Priority Mail Contract 721

55. Priority Mail Contract 730

56. Priority Mail Contract 734

57. Priority Mail Contract 738

58. Priority Mail Contract 744

59. Priority Mail Contract 745

60. Priority Mail Contract 758

61. Priority Mail Contract 759

62. Priority Mail Contract 763

63. Priority Mail Contract 766

64. Priority Mail Contract 768

65. Priority Mail Contract 770

66. Priority Mail Contract 776

67. Priority Mail Contract 778

68. Priority Mail Contract 784

69. Priority Mail Express & Priority Mail Contract 114

70. Priority Mail Express & Priority Mail Contract 116

71. Priority Mail Express & Priority Mail Contract 118

72. Priority Mail Express & Priority Mail Contract 136

73. Priority Mail Express & Priority Mail Contract 137

74. Priority Mail Express Contract 81

75. Priority Mail Express Contract 96

76. Priority Mail Express Contract 98

77. Priority Mail Express International, Priority Mail International & First-Class Package International Service Contract 7

78. Priority Mail Express International, Priority Mail International, First-Class Package International Service & Commercial ePacket 12

79. Priority Mail Express, Priority Mail & First-Class Package Service Contract 67

80. Priority Mail Express, Priority Mail & First-Class Package Service Contract 71

81. Priority Mail Express, Priority Mail & First-Class Package Service Contract 79

82. Priority Mail Express, Priority Mail & Parcel Select Contract 1

83. Priority Mail Express, Priority Mail, First-Class Package Service & Parcel Select Contract 11

84. Priority Mail Express, Priority Mail, First-Class Package Service & Parcel Select Contract 13

85. Priority Mail Express, Priority Mail, First-Class Package Service & Parcel Select Contract 15

86. Priority Mail Express, Priority Mail, First-Class Package Service & Parcel Select Contract 21

87. Priority Mail Express, Priority Mail, First-Class Package Service & Parcel Select Contract 35

88. Priority Mail Express, Priority Mail, First-Class Package Service & Parcel Select Contract 46

89. Priority Mail Express, Priority Mail, First-Class Package Service & Parcel Select Contract 70

90. Priority Mail Express, Priority Mail, First-Class Package Service & Parcel Select Contract 74

91. Priority Mail Express, Priority Mail, First-Class Package Service & Parcel Select Contract 82

92. Priority Mail Express, Priority Mail, First-Class Package Service & Parcel Select Contract 85

93. Priority Mail Express, Priority Mail, First-Class Package Service & Parcel Select Contract 87

94. Priority Mail, First-Class Package Service & Parcel Select Contract 37

The above-referenced changes to the Market Dominant product list and the Competitive product list are incorporated into 39 CFR Appendix A and B to Subpart A of Part 3040.

V. Ordering Paragraphs

It is ordered:

1. Part 3040 of title 39, Code of Federal Regulations, is amended as set forth below the signature of this Notice, effective 45 days after the date of publication of the Notice in the Federal Register without further action, unless adverse comments are received.

2. The Secretary shall arrange for publication of the Notice in the Federal Register.

3. Interested persons may submit adverse comments no later than 30 days from the date of the publication of this Notice in the Federal Register.

4. If adverse comments are received, the Secretary will publish a timely withdrawal of the Notice in the Federal Register.

By the Commission.
Jennie L. Jbara,
Alternate Certifying Officer.

List of Subjects in 39 CFR Part 3040

Administrative practice and procedure, Postal Service.

For the reasons discussed in the preamble, the Postal Regulatory Commission amends chapter III of title 39 of the Code of Federal Regulations as follows:

PART 3040—PRODUCT LISTS

1. The authority citation for part 3040 continues to read as follows:

Authority: 39 U.S.C. 503; 3622; 3631; 3642; 3682.

2. Revise appendix A to subpart A of part 3040 to read as follows:

Appendix A to Subpart A of Part 3040—Market Dominant Product List

(An asterisk (*) indicates an organizational class or group, not a Postal Service product.)

FIRST-CLASS MAIL *

Single-Piece Letters/Postcards

Presorted Letters/Postcards

Flats

Outbound Single-Piece First-Class Mail International

Inbound Letter Post

USPS MARKETING MAIL (COMMERCIAL AND NONPROFIT) *

High Density and Saturation Letters

High Density and Saturation Flats/Parcels

Carrier Route

Letters

Flats

Parcels

Every Door Direct Mail—Retail

PERIODICALS *

In-County Periodicals

Outside County Periodicals

PACKAGE SERVICES *

Alaska Bypass Service

Bound Printed Matter Flats

Bound Printed Matter Parcels

Media Mail/Library Mail

SPECIAL SERVICES *

Ancillary Services

International Ancillary Services

Address Management Services

Caller Service

Credit Card Authentication

International Reply Coupon Service

International Business Reply Mail Service

Money Orders

Post Office Box Service

Stamp Fulfillment Services

NEGOTIATED SERVICE AGREEMENTS *

Domestic *

Publisher's Clearing House Negotiated Service Agreement for USPS Marketing Mail

International *

Inbound Market Dominant Multi-Service Agreements with Foreign Postal Operators

NONPOSTAL SERVICES *

Alliances with the Private Sector to Defray Cost of Key Postal Functions

Philatelic Sales

MARKET TESTS *

USPS Connect Local Mail

3. Revise appendix B to subpart A of part 3040 to read as follows:

Appendix B to Subpart A of Part 3040—Competitive Product List

(An asterisk (*) indicates an organizational class or group, not a Postal Service product.)

DOMESTIC PRODUCTS *

Priority Mail Express

Priority Mail

Parcel Select

USPS Ground Advantage

INTERNATIONAL PRODUCTS *

Outbound International Expedited Services

Inbound Parcel Post (at UPU rates)

Outbound Priority Mail International

International Priority Airmail (IPA)

International Surface Air Lift (ISAL)

International Direct Sacks-M-Bags

Outbound Single-Piece First-Class Package International Service

Inbound Letter Post Small Packets and Bulky Letters

NEGOTIATED SERVICE AGREEMENTS *

Domestic *

Priority Mail Express Contract 83

Priority Mail Express Contract 87

Priority Mail Express Contract 88

Priority Mail Express Contract 92

Priority Mail Express Contract 95

Priority Mail Express Contract 97

Priority Mail Express Contract 99

Parcel Return Service Contract 19

Parcel Return Service Contract 20

Priority Mail Contract 80

Priority Mail Contract 153

Priority Mail Contract 360

Priority Mail Contract 609

Priority Mail Contract 642

Priority Mail Contract 685

Priority Mail Contract 686

Priority Mail Contract 687

Priority Mail Contract 690

Priority Mail Contract 693

Priority Mail Contract 694

Priority Mail Contract 695

Priority Mail Contract 700

Priority Mail Contract 701

Priority Mail Contract 704

Priority Mail Contract 705

Priority Mail Contract 707

Priority Mail Contract 709

Priority Mail Contract 712

Priority Mail Contract 714

Priority Mail Contract 715

Priority Mail Contract 720

Priority Mail Contract 722

Priority Mail Contract 733

Priority Mail Contract 736

Priority Mail Contract 737

Priority Mail Contract 739

Priority Mail Contract 740

Priority Mail Contract 742

Priority Mail Contract 747

Priority Mail Contract 749

Priority Mail Contract 750

Priority Mail Contract 751

Priority Mail Contract 753

Priority Mail Contract 754

Priority Mail Contract 755

Priority Mail Contract 756

Priority Mail Contract 757

Priority Mail Contract 760

Priority Mail Contract 761

Priority Mail Contract 762

Priority Mail Contract 764

Priority Mail Contract 765

Priority Mail Contract 767

Priority Mail Contract 769

Priority Mail Contract 771

Priority Mail Contract 772

Priority Mail Contract 773

Priority Mail Contract 774

Priority Mail Contract 777

Priority Mail Contract 779

Priority Mail Contract 780

Priority Mail Contract 781

Priority Mail Contract 782

Priority Mail Contract 783

Priority Mail Contract 785

Priority Mail Contract 786

Priority Mail Contract 787

Priority Mail Contract 788

Priority Mail Express & Priority Mail Contract 99

Priority Mail Express & Priority Mail Contract 122

Priority Mail Express & Priority Mail Contract 123

Priority Mail Express & Priority Mail Contract 130

Priority Mail Express & Priority Mail Contract 131

Priority Mail Express & Priority Mail Contract 133

Priority Mail Express & Priority Mail Contract 135

Parcel Select & Parcel Return Service Contract 10

Parcel Select Contract 34

Parcel Select Contract 44

Parcel Select Contract 48

Parcel Select Contract 56

Parcel Select Contract 57

Parcel Select Contract 58

Priority Mail—Non-Published Rates 1

Priority Mail—Non-Published Rates 2

First-Class Package Service Contract 87

First-Class Package Service Contract 112

First-Class Package Service Contract 116

First-Class Package Service Contract 117

First-Class Package Service Contract 118

First-Class Package Service Contract 121

Priority Mail Express, Priority Mail & First-Class Package Service Contract 66

Priority Mail Express, Priority Mail & First-Class Package Service Contract 74

Priority Mail Express, Priority Mail & First-Class Package Service Contract 75

Priority Mail Express, Priority Mail & First-Class Package Service Contract 77

Priority Mail Express, Priority Mail & First-Class Package Service Contract 78

Priority Mail Express, Priority Mail & First-Class Package Service Contract 80

Priority Mail & First-Class Package Service Contract 26

Priority Mail & First-Class Package Service Contract 79

Priority Mail & First-Class Package Service Contract 121

Priority Mail & First-Class Package Service Contract 137

Priority Mail & First-Class Package Service Contract 144

Priority Mail & First-Class Package Service Contract 153

Priority Mail & First-Class Package Service Contract 154

Priority Mail & First-Class Package Service Contract 155

Priority Mail & First-Class Package Service Contract 166

Priority Mail & First-Class Package Service Contract 169

Priority Mail & First-Class Package Service Contract 175

Priority Mail & First-Class Package Service Contract 183

Priority Mail & First-Class Package Service Contract 186

Priority Mail & First-Class Package Service Contract 193

Priority Mail & First-Class Package Service Contract 195

Priority Mail & First-Class Package Service Contract 198

Priority Mail & First-Class Package Service Contract 200

Priority Mail & First-Class Package Service Contract 203

Priority Mail & First-Class Package Service Contract 204

Priority Mail & First-Class Package Service Contract 205

Priority Mail & First-Class Package Service Contract 206

Priority Mail & First-Class Package Service Contract 208

Priority Mail & First-Class Package Service Contract 213

Priority Mail & First-Class Package Service Contract 215

Priority Mail & First-Class Package Service Contract 216

Priority Mail & First-Class Package Service Contract 217

Priority Mail & First-Class Package Service Contract 218

Priority Mail & First-Class Package Service Contract 220

Priority Mail & First-Class Package Service Contract 221

Priority Mail & First-Class Package Service Contract 224

Priority Mail & First-Class Package Service Contract 228

Priority Mail & First-Class Package Service Contract 230

Priority Mail & Parcel Select Contract 4

Priority Mail & Parcel Select Contract 5

Priority Mail & Parcel Select Contract 6

Priority Mail & Parcel Select Contract 7

Priority Mail & Parcel Select Contract 8

Priority Mail & Parcel Select Contract 9

Priority Mail Express, Priority Mail, First-Class Package Service & Parcel Select Contract 6

Priority Mail Express, Priority Mail, First-Class Package Service & Parcel Select Contract 8

Priority Mail Express, Priority Mail, First-Class Package Service & Parcel Select Contract 9

Priority Mail Express, Priority Mail, First-Class Package Service & Parcel Select Contract 12

Priority Mail Express, Priority Mail, First-Class Package Service & Parcel Select Contract 14

Priority Mail Express, Priority Mail, First-Class Package Service & Parcel Select Contract 16

Priority Mail Express, Priority Mail, First-Class Package Service & Parcel Select Contract 17

Priority Mail Express, Priority Mail, First-Class Package Service & Parcel Select Contract 18

Priority Mail Express, Priority Mail, First-Class Package Service & Parcel Select Contract 19

Priority Mail Express, Priority Mail, First-Class Package Service & Parcel Select Contract 20

Priority Mail Express, Priority Mail, First-Class Package Service & Parcel Select Contract 22

Priority Mail Express, Priority Mail, First-Class Package Service & Parcel Select Contract 23

Priority Mail Express, Priority Mail, First-Class Package Service & Parcel Select Contract 24

Priority Mail Express, Priority Mail, First-Class Package Service & Parcel Select Contract 25

Priority Mail Express, Priority Mail, First-Class Package Service & Parcel Select Contract 26

Priority Mail Express, Priority Mail, First-Class Package Service & Parcel Select Contract 27

Priority Mail Express, Priority Mail, First-Class Package Service & Parcel Select Contract 28

Priority Mail Express, Priority Mail, First-Class Package Service & Parcel Select Contract 29

Priority Mail Express, Priority Mail, First-Class Package Service & Parcel Select Contract 30

Priority Mail Express, Priority Mail, First-Class Package Service & Parcel Select Contract 31

Priority Mail Express, Priority Mail, First-Class Package Service & Parcel Select Contract 32

Priority Mail Express, Priority Mail, First-Class Package Service & Parcel Select Contract 33

Priority Mail Express, Priority Mail, First-Class Package Service & Parcel Select Contract 34

Priority Mail Express, Priority Mail, First-Class Package Service & Parcel Select Contract 36

Priority Mail Express, Priority Mail, First-Class Package Service & Parcel Select Contract 37

Priority Mail Express, Priority Mail, First-Class Package Service & Parcel Select Contract 38

Priority Mail Express, Priority Mail, First-Class Package Service & Parcel Select Contract 39

Priority Mail Express, Priority Mail, First-Class Package Service & Parcel Select Contract 40

Priority Mail Express, Priority Mail, First-Class Package Service & Parcel Select Contract 41

Priority Mail Express, Priority Mail, First-Class Package Service & Parcel Select Contract 42

Priority Mail Express, Priority Mail, First-Class Package Service & Parcel Select Contract 43

Priority Mail Express, Priority Mail, First-Class Package Service & Parcel Select Contract 44

Priority Mail Express, Priority Mail, First-Class Package Service & Parcel Select Contract 45

Priority Mail Express, Priority Mail, First-Class Package Service & Parcel Select Contract 47

Priority Mail Express, Priority Mail, First-Class Package Service & Parcel Select Contract 48

Priority Mail Express, Priority Mail, First-Class Package Service & Parcel Select Contract 49

Priority Mail Express, Priority Mail, First-Class Package Service & Parcel Select Contract 50

Priority Mail Express, Priority Mail, First-Class Package Service & Parcel Select Contract 51

Priority Mail Express, Priority Mail, First-Class Package Service & Parcel Select Contract 52

Priority Mail Express, Priority Mail, First-Class Package Service & Parcel Select Contract 53

Priority Mail Express, Priority Mail, First-Class Package Service & Parcel Select Contract 54

Priority Mail Express, Priority Mail, First-Class Package Service & Parcel Select Contract 55

Priority Mail Express, Priority Mail, First-Class Package Service & Parcel Select Contract 56

Priority Mail Express, Priority Mail, First-Class Package Service & Parcel Select Contract 57

Priority Mail Express, Priority Mail, First-Class Package Service & Parcel Select Contract 58

Priority Mail Express, Priority Mail, First-Class Package Service & Parcel Select Contract 59

Priority Mail Express, Priority Mail, First-Class Package Service & Parcel Select Contract 60

Priority Mail Express, Priority Mail, First-Class Package Service & Parcel Select Contract 61

Priority Mail Express, Priority Mail, First-Class Package Service & Parcel Select Contract 62

Priority Mail Express, Priority Mail, First-Class Package Service & Parcel Select Contract 63

Priority Mail Express, Priority Mail, First-Class Package Service & Parcel Select Contract 64

Priority Mail Express, Priority Mail, First-Class Package Service & Parcel Select Contract 66

Priority Mail Express, Priority Mail, First-Class Package Service & Parcel Select Contract 67

Priority Mail Express, Priority Mail, First-Class Package Service & Parcel Select Contract 68

Priority Mail Express, Priority Mail, First-Class Package Service & Parcel Select Contract 69

Priority Mail Express, Priority Mail, First-Class Package Service & Parcel Select Contract 71

Priority Mail Express, Priority Mail, First-Class Package Service & Parcel Select Contract 72

Priority Mail Express, Priority Mail, First-Class Package Service & Parcel Select Contract 73

Priority Mail Express, Priority Mail, First-Class Package Service & Parcel Select Contract 75

Priority Mail Express, Priority Mail, First-Class Package Service & Parcel Select Contract 76

Priority Mail Express, Priority Mail, First-Class Package Service & Parcel Select Contract 77

Priority Mail Express, Priority Mail, First-Class Package Service & Parcel Select Contract 78

Priority Mail Express, Priority Mail, First-Class Package Service & Parcel Select Contract 79

Priority Mail Express, Priority Mail, First-Class Package Service & Parcel Select Contract 80

Priority Mail Express, Priority Mail, First-Class Package Service & Parcel Select Contract 81

Priority Mail Express, Priority Mail, First-Class Package Service & Parcel Select Contract 83

Priority Mail Express, Priority Mail, First-Class Package Service & Parcel Select Contract 84

Priority Mail Express, Priority Mail, First-Class Package Service & Parcel Select Contract 86

Priority Mail Express, Priority Mail, First-Class Package Service & Parcel Select Contract 88

Priority Mail Express, Priority Mail, First-Class Package Service & Parcel Select Contract 89

Priority Mail Express, Priority Mail, First-Class Package Service & Parcel Select Contract 90

Priority Mail Express, Priority Mail, First-Class Package Service & Parcel Select Contract 91

Priority Mail Express, Priority Mail, First-Class Package Service & Parcel Select Contract 92

Priority Mail Express, Priority Mail, First-Class Package Service & Parcel Select Contract 93

Priority Mail Express, Priority Mail, First-Class Package Service & Parcel Select Contract 94

Priority Mail Express, Priority Mail, First-Class Package Service & Parcel Select Contract 95

Priority Mail Express, Priority Mail, First-Class Package Service & Parcel Select Contract 96

Priority Mail Express, Priority Mail, First-Class Package Service & Parcel Select Contract 97

Priority Mail Express, Priority Mail, First-Class Package Service & Parcel Select Contract 98

Priority Mail Express, Priority Mail, First-Class Package Service & Parcel Select Contract 99

Priority Mail Express, Priority Mail, First-Class Package Service & Parcel Select Contract 100

Priority Mail Express, Priority Mail, First-Class Package Service & Parcel Select Contract 101

Priority Mail Express, Priority Mail, First-Class Package Service & Parcel Select Contract 102

Priority Mail Express, Priority Mail, First-Class Package Service & Parcel Select Contract 103

Priority Mail Express, Priority Mail, First-Class Package Service & Parcel Select Contract 104

Priority Mail Express, Priority Mail, First-Class Package Service & Parcel Select Contract 105

Priority Mail Express, Priority Mail, First-Class Package Service & Parcel Select Contract 106

Priority Mail Express, Priority Mail, First-Class Package Service & Parcel Select Contract 107

Priority Mail Express, Priority Mail, First-Class Package Service & Parcel Select Contract 108

Priority Mail Express, Priority Mail, First-Class Package Service & Parcel Select Contract 109

Priority Mail Express, Priority Mail, First-Class Package Service & Parcel Select Contract 110

Priority Mail Express, Priority Mail, First-Class Package Service & Parcel Select Contract 111

Priority Mail Express, Priority Mail, First-Class Package Service & Parcel Select Contract 113

Priority Mail Express, Priority Mail, First-Class Package Service & Parcel Select Contract 114

Priority Mail Express, Priority Mail, First-Class Package Service & Parcel Select Contract 115

Priority Mail Express, Priority Mail, First-Class Package Service & Parcel Select Contract 116

Priority Mail Express, Priority Mail, First-Class Package Service & Parcel Select Contract 117

Priority Mail Express, Priority Mail, First-Class Package Service & Parcel Select Contract 118

Priority Mail Express, Priority Mail, First-Class Package Service & Parcel Select Contract 119

Priority Mail Express, Priority Mail, First-Class Package Service & Parcel Select Contract 120

Priority Mail Express, Priority Mail, First-Class Package Service & Parcel Select Contract 121

Priority Mail Express, Priority Mail, First-Class Package Service & Parcel Select Contract 122

Priority Mail, First-Class Package Service & Parcel Select Contract 3

Priority Mail, First-Class Package Service & Parcel Select Contract 4

Priority Mail, First-Class Package Service & Parcel Select Contract 5

Priority Mail, First-Class Package Service & Parcel Select Contract 6

Priority Mail, First-Class Package Service & Parcel Select Contract 7

Priority Mail, First-Class Package Service & Parcel Select Contract 8

Priority Mail, First-Class Package Service & Parcel Select Contract 9

Priority Mail, First-Class Package Service & Parcel Select Contract 12

Priority Mail, First-Class Package Service & Parcel Select Contract 13

Priority Mail, First-Class Package Service & Parcel Select Contract 15

Priority Mail, First-Class Package Service & Parcel Select Contract 16

Priority Mail, First-Class Package Service & Parcel Select Contract 17

Priority Mail, First-Class Package Service & Parcel Select Contract 18

Priority Mail, First-Class Package Service & Parcel Select Contract 19

Priority Mail, First-Class Package Service & Parcel Select Contract 20

Priority Mail, First-Class Package Service & Parcel Select Contract 22

Priority Mail, First-Class Package Service & Parcel Select Contract 26

Priority Mail, First-Class Package Service & Parcel Select Contract 28

Priority Mail, First-Class Package Service & Parcel Select Contract 29

Priority Mail, First-Class Package Service & Parcel Select Contract 30

Priority Mail, First-Class Package Service & Parcel Select Contract 31

Priority Mail, First-Class Package Service & Parcel Select Contract 32

Priority Mail, First-Class Package Service & Parcel Select Contract 33

Priority Mail, First-Class Package Service & Parcel Select Contract 34

Priority Mail, First-Class Package Service & Parcel Select Contract 35

Priority Mail, First-Class Package Service & Parcel Select Contract 36

Priority Mail, First-Class Package Service & Parcel Select Contract 38

Priority Mail, First-Class Package Service & Parcel Select Contract 39

Priority Mail, First-Class Package Service & Parcel Select Contract 40

Priority Mail, First-Class Package Service & Parcel Select Contract 41

Priority Mail, Parcel Select & Parcel Return Service Contract 1

First-Class Package Service & Parcel Select Contract 1

First-Class Package Service & Parcel Select Contract 2

First-Class Package Service & Parcel Select Contract 3

First-Class Package Service & Parcel Select Contract 4

First-Class Package Service & Parcel Select Contract 5

First-Class Package Service & Parcel Select Contract 7

Priority Mail & USPS Ground Advantage Contract 1

Priority Mail & USPS Ground Advantage Contract 2

Priority Mail & USPS Ground Advantage Contract 4

Priority Mail & USPS Ground Advantage Contract 5

Priority Mail & USPS Ground Advantage Contract 6

Priority Mail & USPS Ground Advantage Contract 7

Priority Mail & USPS Ground Advantage Contract 8

Priority Mail & USPS Ground Advantage Contract 9

Priority Mail & USPS Ground Advantage Contract 10

Priority Mail & USPS Ground Advantage Contract 11

Priority Mail & USPS Ground Advantage Contract 12

Priority Mail & USPS Ground Advantage Contract 14

Priority Mail & USPS Ground Advantage Contract 15

Priority Mail & USPS Ground Advantage Contract 16

Priority Mail & USPS Ground Advantage Contract 17

Priority Mail & USPS Ground Advantage Contract 18

Priority Mail & USPS Ground Advantage Contract 19

Priority Mail & USPS Ground Advantage Contract 20

Priority Mail & USPS Ground Advantage Contract 21

Priority Mail & USPS Ground Advantage Contract 22

Priority Mail & USPS Ground Advantage Contract 23

Priority Mail & USPS Ground Advantage Contract 24

Priority Mail & USPS Ground Advantage Contract 25

Priority Mail & USPS Ground Advantage Contract 26

Priority Mail & USPS Ground Advantage Contract 27

Priority Mail & USPS Ground Advantage Contract 28

Priority Mail & USPS Ground Advantage Contract 29

Priority Mail & USPS Ground Advantage Contract 30

Priority Mail & USPS Ground Advantage Contract 31

Priority Mail & USPS Ground Advantage Contract 32

Priority Mail & USPS Ground Advantage Contract 33

Priority Mail & USPS Ground Advantage Contract 34

Priority Mail & USPS Ground Advantage Contract 35

Priority Mail & USPS Ground Advantage Contract 36

Priority Mail & USPS Ground Advantage Contract 37

Priority Mail & USPS Ground Advantage Contract 38

Priority Mail & USPS Ground Advantage Contract 39

Priority Mail & USPS Ground Advantage Contract 40

Priority Mail & USPS Ground Advantage Contract 41

Priority Mail & USPS Ground Advantage Contract 42

Priority Mail & USPS Ground Advantage Contract 43

Priority Mail & USPS Ground Advantage Contract 44

Priority Mail & USPS Ground Advantage Contract 45

Priority Mail & USPS Ground Advantage Contract 46

Priority Mail & USPS Ground Advantage Contract 47

Priority Mail & USPS Ground Advantage Contract 48

Priority Mail & USPS Ground Advantage Contract 49

Priority Mail & USPS Ground Advantage Contract 50

Priority Mail & USPS Ground Advantage Contract 51

Priority Mail & USPS Ground Advantage Contract 52

Priority Mail & USPS Ground Advantage Contract 53

Priority Mail & USPS Ground Advantage Contract 54

Priority Mail & USPS Ground Advantage Contract 55

Priority Mail & USPS Ground Advantage Contract 56

Priority Mail & USPS Ground Advantage Contract 57

Priority Mail & USPS Ground Advantage Contract 58

Priority Mail & USPS Ground Advantage Contract 59

Priority Mail & USPS Ground Advantage Contract 60

Priority Mail & USPS Ground Advantage Contract 61

Priority Mail & USPS Ground Advantage Contract 62

Priority Mail & USPS Ground Advantage Contract 63

Priority Mail & USPS Ground Advantage Contract 64

Priority Mail & USPS Ground Advantage Contract 65

Priority Mail & USPS Ground Advantage Contract 66

Priority Mail & USPS Ground Advantage Contract 67

Priority Mail & USPS Ground Advantage Contract 68

Priority Mail & USPS Ground Advantage Contract 69

Priority Mail & USPS Ground Advantage Contract 70

Priority Mail & USPS Ground Advantage Contract 71

Priority Mail & USPS Ground Advantage Contract 72

Priority Mail & USPS Ground Advantage Contract 73

Priority Mail & USPS Ground Advantage Contract 74

Priority Mail & USPS Ground Advantage Contract 75

Priority Mail & USPS Ground Advantage Contract 76

Priority Mail & USPS Ground Advantage Contract 77

Priority Mail & USPS Ground Advantage Contract 78

Priority Mail & USPS Ground Advantage Contract 79

Priority Mail & USPS Ground Advantage Contract 80

Priority Mail & USPS Ground Advantage Contract 81

Priority Mail & USPS Ground Advantage Contract 82

Priority Mail & USPS Ground Advantage Contract 83

Priority Mail & USPS Ground Advantage Contract 84

Priority Mail & USPS Ground Advantage Contract 85

Priority Mail & USPS Ground Advantage Contract 86

Priority Mail & USPS Ground Advantage Contract 87

Priority Mail & USPS Ground Advantage Contract 88

Priority Mail & USPS Ground Advantage Contract 89

Priority Mail & USPS Ground Advantage Contract 90

Priority Mail & USPS Ground Advantage Contract 91

Priority Mail & USPS Ground Advantage Contract 92

Priority Mail & USPS Ground Advantage Contract 93

Priority Mail & USPS Ground Advantage Contract 94

Priority Mail & USPS Ground Advantage Contract 95

Priority Mail & USPS Ground Advantage Contract 96

Priority Mail & USPS Ground Advantage Contract 97

Priority Mail & USPS Ground Advantage Contract 98

Priority Mail & USPS Ground Advantage Contract 99

Priority Mail & USPS Ground Advantage Contract 100

Priority Mail & USPS Ground Advantage Contract 101

Priority Mail & USPS Ground Advantage Contract 102

Priority Mail & USPS Ground Advantage Contract 103

Priority Mail & USPS Ground Advantage Contract 104

Priority Mail & USPS Ground Advantage Contract 105

Priority Mail & USPS Ground Advantage Contract 106

Priority Mail & USPS Ground Advantage Contract 107

Priority Mail & USPS Ground Advantage Contract 108

Priority Mail & USPS Ground Advantage Contract 109

Priority Mail & USPS Ground Advantage Contract 110

Priority Mail & USPS Ground Advantage Contract 111

Priority Mail & USPS Ground Advantage Contract 112

Priority Mail & USPS Ground Advantage Contract 113

Priority Mail & USPS Ground Advantage Contract 114

Priority Mail & USPS Ground Advantage Contract 115

Priority Mail & USPS Ground Advantage Contract 116

Priority Mail & USPS Ground Advantage Contract 117

Priority Mail & USPS Ground Advantage Contract 118

Priority Mail & USPS Ground Advantage Contract 119

Priority Mail & USPS Ground Advantage Contract 120

Priority Mail & USPS Ground Advantage Contract 121

Priority Mail & USPS Ground Advantage Contract 122

Priority Mail & USPS Ground Advantage Contract 123

Priority Mail & USPS Ground Advantage Contract 124

Priority Mail & USPS Ground Advantage Contract 125

Priority Mail & USPS Ground Advantage Contract 126

Priority Mail & USPS Ground Advantage Contract 127

Priority Mail & USPS Ground Advantage Contract 128

Priority Mail & USPS Ground Advantage Contract 129

Priority Mail & USPS Ground Advantage Contract 130

Priority Mail & USPS Ground Advantage Contract 131

Priority Mail & USPS Ground Advantage Contract 132

Priority Mail & USPS Ground Advantage Contract 133

Priority Mail & USPS Ground Advantage Contract 134

Priority Mail & USPS Ground Advantage Contract 135

Priority Mail & USPS Ground Advantage Contract 136

Priority Mail & USPS Ground Advantage Contract 137

Priority Mail & USPS Ground Advantage Contract 138

Priority Mail & USPS Ground Advantage Contract 139

Priority Mail & USPS Ground Advantage Contract 140

Priority Mail & USPS Ground Advantage Contract 141

Priority Mail & USPS Ground Advantage Contract 142

Priority Mail & USPS Ground Advantage Contract 143

Priority Mail & USPS Ground Advantage Contract 144

Priority Mail & USPS Ground Advantage Contract 145

Priority Mail & USPS Ground Advantage Contract 146

Priority Mail & USPS Ground Advantage Contract 147

Priority Mail & USPS Ground Advantage Contract 148

Priority Mail & USPS Ground Advantage Contract 149

Priority Mail & USPS Ground Advantage Contract 150

Priority Mail, First-Class Package Service, Parcel Select & Parcel Return Service Contract 1

USPS Ground Advantage Contract 1

USPS Ground Advantage Contract 2

USPS Ground Advantage Contract 3

USPS Ground Advantage Contract 4

USPS Ground Advantage Contract 5

USPS Ground Advantage Contract 6

USPS Ground Advantage Contract 7

USPS Ground Advantage Contract 8

USPS Ground Advantage Contract 9

USPS Ground Advantage Contract 10

Priority Mail Express, Priority Mail & USPS Ground Advantage Contract 1

Priority Mail Express, Priority Mail & USPS Ground Advantage Contract 2

Priority Mail Express, Priority Mail & USPS Ground Advantage Contract 3

Priority Mail Express, Priority Mail & USPS Ground Advantage Contract 4

Priority Mail Express, Priority Mail & USPS Ground Advantage Contract 5

Priority Mail Express, Priority Mail & USPS Ground Advantage Contract 6

Priority Mail Express, Priority Mail & USPS Ground Advantage Contract 7

Priority Mail Express, Priority Mail & USPS Ground Advantage Contract 8

Priority Mail Express, Priority Mail & USPS Ground Advantage Contract 9

Priority Mail Express, Priority Mail & USPS Ground Advantage Contract 10

Priority Mail Express, Priority Mail & USPS Ground Advantage Contract 11

Priority Mail Express, Priority Mail & USPS Ground Advantage Contract 12

Priority Mail Express, Priority Mail & USPS Ground Advantage Contract 13

Priority Mail Express, Priority Mail & USPS Ground Advantage Contract 14

Priority Mail Express, Priority Mail & USPS Ground Advantage Contract 15

Priority Mail Express, Priority Mail & USPS Ground Advantage Contract 16

Priority Mail Express, Priority Mail & USPS Ground Advantage Contract 17

Priority Mail Express, Priority Mail & USPS Ground Advantage Contract 18

Priority Mail Express, Priority Mail & USPS Ground Advantage Contract 19

Priority Mail Express, Priority Mail & USPS Ground Advantage Contract 20

Priority Mail Express, Priority Mail & USPS Ground Advantage Contract 21

Priority Mail Express, Priority Mail & USPS Ground Advantage Contract 22

Priority Mail Express, Priority Mail & USPS Ground Advantage Contract 23

Priority Mail Express, Priority Mail & USPS Ground Advantage Contract 24

Priority Mail Express, Priority Mail & USPS Ground Advantage Contract 25

Priority Mail Express, Priority Mail & USPS Ground Advantage Contract 26

Priority Mail Express, Priority Mail & USPS Ground Advantage Contract 27

Priority Mail Express, Priority Mail & USPS Ground Advantage Contract 28

Priority Mail Express, Priority Mail & USPS Ground Advantage Contract 29

Priority Mail Express, Priority Mail & USPS Ground Advantage Contract 30

Priority Mail Express, Priority Mail & USPS Ground Advantage Contract 31

Priority Mail Express, Priority Mail & USPS Ground Advantage Contract 32

Priority Mail Express, Priority Mail & USPS Ground Advantage Contract 33

Priority Mail Express, Priority Mail & USPS Ground Advantage Contract 34

Priority Mail Express, Priority Mail & USPS Ground Advantage Contract 35

Priority Mail Express, Priority Mail & USPS Ground Advantage Contract 36

Priority Mail Express, Priority Mail & USPS Ground Advantage Contract 37

Priority Mail, USPS Ground Advantage, Parcel Select & Parcel Return Service Contract 1

Priority Mail, USPS Ground Advantage & Parcel Select Contract 1

Priority Mail Express, Priority Mail, USPS Ground Advantage & Parcel Select Contract 1

Outbound International *

Global Expedited Package Services (GEPS) Contracts

GEPS 3

GEPS 5

GEPS 6

GEPS 7

GEPS 8

GEPS 9

GEPS 10

Global Bulk Economy (GBE) Contracts

Global Plus Contracts

Global Plus 1C

Global Plus 1D

Global Plus 1E

Global Plus 2C

Global Plus 3

Global Plus 4

Global Plus 5

Global Plus 6

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Global Expedited Package Services (GEPS)—Non-Published Rates 11

Global Expedited Package Services (GEPS)—Non-Published Rates 12

Global Expedited Package Services (GEPS)—Non-Published Rates 13

Global Expedited Package Services (GEPS)—Non-Published Rates 14

Global Expedited Package Services (GEPS)—Non-Published Rates 15

Outbound Competitive International Merchandise Return Service Agreement with Royal Mail Group, Ltd.

Competitive International Merchandise Return Service Agreements with Foreign Postal Operators

Competitive International Merchandise Return Service Agreements with Foreign Postal Operators 1

Competitive International Merchandise Return Service Agreements with Foreign Postal Operators 2

Alternative Delivery Provider (ADP) Contracts

ADP 1

Alternative Delivery Provider Reseller (ADPR) Contracts

ADPR 1

Priority Mail Express International, Priority Mail International & First-Class Package International Service Contracts

Priority Mail Express International, Priority Mail International & First-Class Package International Service Contract 4

Priority Mail Express International, Priority Mail International & First-Class Package International Service Contract 6

Priority Mail Express International, Priority Mail International & First-Class Package International Service Contract 8

Priority Mail Express International, Priority Mail International & First-Class Package International Service Contract 9

Priority Mail Express International, Priority Mail International & First-Class Package International Service Contract 10

Priority Mail Express International, Priority Mail International & First-Class Package International Service Contract 11

Priority Mail Express International, Priority Mail International & First-Class Package International Service Contract 12

Priority Mail Express International, Priority Mail International & First-Class Package International Service Contract 13

Priority Mail Express International, Priority Mail International & First-Class Package International Service Contract 14

Priority Mail Express International, Priority Mail International & First-Class Package International Service Contract 15

Priority Mail Express International, Priority Mail International & First-Class Package International Service Contract 16

Priority Mail Express International, Priority Mail International & First-Class Package International Service Contract 17

Priority Mail Express International, Priority Mail International & First-Class Package International Service Contract 18

Priority Mail Express International, Priority Mail International & First-Class Package International Service Contract 19

Priority Mail Express International, Priority Mail International & First-Class Package International Service Contract 20

Priority Mail Express International, Priority Mail International & First-Class Package International Service Contract 21

Priority Mail Express International, Priority Mail International & First-Class Package International Service Contract 22

Priority Mail Express International, Priority Mail International & First-Class Package International Service Contract 23

Priority Mail Express International, Priority Mail International & First-Class Package International Service Contract 24

Priority Mail Express International, Priority Mail International & First-Class Package International Service Contract 25

Priority Mail Express International, Priority Mail International & First-Class Package International Service Contract 26

Priority Mail Express International, Priority Mail International & First-Class Package International Service Contract 27

Priority Mail Express International, Priority Mail International & First-Class Package International Service Contract 28

Priority Mail Express International, Priority Mail International & First-Class Package International Service Contract 29

Priority Mail Express International, Priority Mail International & First-Class Package International Service Contract 30

Priority Mail Express International, Priority Mail International & First-Class Package International Service Contract 31

Priority Mail Express International, Priority Mail International, First-Class Package International Service & Commercial ePacket Contracts

Priority Mail Express International, Priority Mail International, First-Class Package International Service & Commercial ePacket Contract 2

Priority Mail Express International, Priority Mail International, First-Class Package International Service & Commercial ePacket Contract 8

Priority Mail Express International, Priority Mail International, First-Class Package International Service & Commercial ePacket Contract 13

Priority Mail Express International, Priority Mail International, First-Class Package International Service & Commercial ePacket Contract 14

Priority Mail Express International, Priority Mail International & Commercial ePacket Contracts

Priority Mail Express International, Priority Mail International & Commercial ePacket Contract 2

Priority Mail Express International, Priority Mail International & Commercial ePacket Contract 3

International Priority Airmail, Commercial ePacket, Priority Mail Express International, Priority Mail International & First-Class Package International Service Contracts

International Priority Airmail, Commercial ePacket, Priority Mail Express International, Priority Mail International & First-Class Package International Service Contract 1

International Priority Airmail, Commercial ePacket, Priority Mail Express International, Priority Mail International & First-Class Package International Service Contract 2

International Priority Airmail, Commercial ePacket, Priority Mail Express International, Priority Mail International & First-Class Package International Service Contract 4

International Priority Airmail, Commercial ePacket, Priority Mail Express International, Priority Mail International & First-Class Package International Service Contract 5

International Priority Airmail, Commercial ePacket, Priority Mail Express International, Priority Mail International & First-Class Package International Service Contract 6

International Priority Airmail, Commercial ePacket, Priority Mail Express International, Priority Mail International & First-Class Package International Service Contract 9

International Priority Airmail, Commercial ePacket, Priority Mail Express International, Priority Mail International & First-Class Package International Service Contract 11

International Priority Airmail, Commercial ePacket, Priority Mail Express International, Priority Mail International & First-Class Package International Service Contract 12

International Priority Airmail, Commercial ePacket, Priority Mail Express International, Priority Mail International & First-Class Package International Service Contract 13

International Priority Airmail, Commercial ePacket, Priority Mail Express International, Priority Mail International & First-Class Package International Service Contract 14

International Priority Airmail, Commercial ePacket, Priority Mail Express International, Priority Mail International & First-Class Package International Service Contract 15

International Priority Airmail, Commercial ePacket, Priority Mail Express International, Priority Mail International & First-Class Package International Service with Reseller Contracts

International Priority Airmail, Commercial ePacket, Priority Mail Express International, Priority Mail International & First-Class Package International Service with Reseller Contract 2

International Priority Airmail, Commercial ePacket, Priority Mail Express International, Priority Mail International & First-Class Package International Service with Reseller Contract 3

International Priority Airmail, Commercial ePacket, Priority Mail Express International, Priority Mail International & First-Class Package International Service with Reseller Contract 4

International Priority Airmail, Commercial ePacket, Priority Mail Express International, Priority Mail International & First-Class Package International Service with Reseller Contract 5

International Priority Airmail, Commercial ePacket, Priority Mail Express International, Priority Mail International & First-Class Package International Service with Reseller Contract 6

International Priority Airmail, Commercial ePacket, Priority Mail Express International, Priority Mail International & First-Class Package International Service with Reseller Contract 7

International Priority Airmail, Commercial ePacket, Priority Mail Express International, Priority Mail International & First-Class Package International Service with Reseller Contract 8

International Priority Airmail Contracts

International Priority Airmail, International Surface Air Lift, Commercial ePacket, Priority Mail Express International, Priority Mail International & First-Class Package International Service Contracts

International Priority Airmail, International Surface Air Lift, Commercial ePacket, Priority Mail Express International, Priority Mail International & First-Class Package International Service Contract 1

International Priority Airmail, International Surface Air Lift, Commercial ePacket, Priority Mail Express International, Priority Mail International & First-Class Package International Service with Reseller Contracts

Inbound International *

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Inbound Competitive Multi-Service Agreements with Foreign Postal Operators

Inbound Competitive Multi-Service Agreements with Foreign Postal Operators 1

SPECIAL SERVICES *

Address Enhancement Services

Greeting Cards, Gift Cards, and Stationery

International Ancillary Services

International Money Transfer Service—Outbound

International Money Transfer Service—Inbound

Premium Forwarding Service

Shipping and Mailing Supplies

Post Office Box Service

Competitive Ancillary Services

NONPOSTAL SERVICES *

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

MARKET TESTS *

[FR Doc. 2024-03060 Filed 2-14-24; 8:45 am]

BILLING CODE 7710-FW-P